DEPARTMENT OF THE INTERIOR

Bureau of Land Management

[MT-929-1320-HN; MTM 88970]

Notice of Availability of Environmental Assessment; Montana

AGENCY: Bureau of Land Management, Interior.

ACTION: Notice.

SUMMARY: A copy of an environmental assessment (EA) for the transfer of Federal mineral rights in lands designated as Otter Creek Tracts 1, 2, and 3 to the State of Montana is available for review. This EA assesses the impacts of the compliance by the Secretary of the Interior with Section 503 of Public Law 105-83 regarding the transfer of mineral assets to the State of Montana.

DATES: Comments must be post marked no later than February 27, 2002.

ADDRESSES: Comments should be sent to the Bureau of Land Management (920), Montana State Office, 5001 Southgate Drive, Billings, Montana 59102.

SUPPLEMENTARY INFORMATION: We welcome your comments on this document. The Bureau of Land Management is collecting comments on behalf of the Secretary of the Interior. We regret that as of February 4, 2002, we do not have internet capability. Therefore, this document is not posted on the internet and comments cannot be received through that medium. Copies of the EA are available at the BLM Montana State Office at the above address.

Comments, including names and addresses of respondents, will be available for public review at the above address during regular business hours (9 a.m. to 4 p.m.) Monday through Friday, except during holidays. Individual respondents may request confidentiality. If you wish to withhold your name or street address from public review or from disclosure under the Freedom of Information Act, you must state this prominently at the beginning of your written comment. Such request will be honored to the extent allowed by law. All submissions from organizations or businesses, and from individuals identifying themselves as representatives or officials of organizations or businesses, will be available for public inspection in their entirety. Thank you for participating in the environmental process.

Dated: February 4, 2002.
Roberta A. Moltzen,
Acting State Director, BLM Montana State Office.

[FR Doc. 02-3518 Filed 2-12-02; 8:45 am]

BILLING CODE 4310-$$-P